DEPARTMENT OF JUSTICE

Notice of Filing of Consent Decree Between the United States, the Commonwealth of Pennsylvania Department of Environmental Protection, the Allegheny County Health Department, and the Allegheny County Sanitary Authority To Resolve Certain Alleged Violations of the Clean Water Act

Notice is hereby given that on May 31, 2007, the United States filed with the United States District Court for the Western District of Pennsylvania, in Case No. 07-737, a proposed Consent Decree to resolve certain claims of the United States, the Commonwealth of Pennsylvania Department of Environmental Protection (“PADEP”), and the Allegheny County Health Department (“ACHD”) against the Allegheny County Sanitary Authority (“Alcosan”) under Sections 301 and 402 of the Clean Water Act, 33 U.S.C. 1311, 1342, and other related state and local authorities. In this action, the United States alleges that Alcosan violated the Clean Water Act by discharging pollutants into waters of the United States without a permit, and by discharging pollutants in a manner not contemplated by its National Pollutant Discharge Elimination System (“NPDES”) permit. These violations occurred primarily during wet weather, which causes Alcosan's system to quickly overload and to discharge through a network of over 300 outfalls that run along three main rivers in the area—the Allegheny, Ohio, and Monogahela Rivers. The United States, PADEP, and ACHD seek injunctive relief and the payment of civil penalties to redress these alleged violations.

The proposed Consent Decree is designed to promote a coordinated regional approach to the wet weather discharge from Alcosan's system. It requires Alcosan to develop and submit a long-term plan, in coordination with the 83 municipalities that contribute flows to Alcosan's system, to control the wet weather discharges from its system and to ensure compliance with its NPDES permit and the Clean Water Act. The proposed Consent Decree also requires Alcosan to pay a civil penalty to the Plaintiffs of $1.2 million, and to undertake at least $3.0 million in supplemental environmental projects.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Allegheny County Sanitary Authority, D.J. Ref. No. 90-5-1-1-4414.

The proposed Consent Decree may be examined at the Office of the United States Attorney, Western District of Pennsylvania, 633 Post Office & Courthouse, 7th and Grant Streets, Pittsburgh, Pennsylvania 15219, and at U.S. EPA Region III, 1650 Arch Street, Philadelphia, Pennsylvania 19103. During the public comment period, the proposed Consent Decree may also be examined on the following Department of Justice Web site, http://www.usdoj.gov/enrd/Consent_Decrees.html. In addition, a copy of the proposed Consent Decree may also be obtained from the Justice Department's Consent Decree Library by faxing or e-mailing a request to Tonia Fleetwood (tonia.fleetwood@usdoj.gov, fax no. (202) 514-0097, phone confirmation number (202) 514-1547. In requesting a copy of the Consent Decree from the Consent Decree Library, please enclose a check in the amount of $65.75 (25 cents per page reproduction cost) payable to the U.S. Treasury or if by e-mail or fax, forward a check in that amount to the Consent Decree Library at the stated address.

Ellen Mahan,
Deputy Chief, Environmental Enforcement Section, Environment and Natural Resources Division.

[FR Doc. 07-2931 Filed 6-13-07; 8:45 am]

BILLING CODE 4410-15-M